INTERNATIONAL TRADE COMMISSION

[Investigation Nos. 731-TA-776-779 (Second Review)]

Preserved Mushrooms From Chile, China, India, and Indonesia; Determinations

On the basis of the record ¹ developed in the subject five-year reviews, the United States International Trade Commission (Commission) determines, pursuant to section 751(c) of the Tariff Act of 1930 (19 U.S.C. 1675(c)), that revocation of the antidumping duty orders on preserved mushrooms from Chile, China, India, and Indonesia would be likely to lead to continuation or recurrence of material injury to an industry in the United States within a reasonably foreseeable time.²

¹ The record is defined in sec. 207.2(f) of the Commission's Rules of Practice and Procedure (19 CFR § 207.2(f)).

² Vice Chairman Daniel R. Pearson determines that revocation of the antidumping duty order on preserved mushrooms from Indonesia would not be likely to lead to continuation or recurrence of material injury to an industry in the United States within a reasonably foreseeable time.

Background

The Commission instituted these reviews on October 1, 2009 (74 FR 50818) and determined on January 4, 2010 that it would conduct expedited reviews (75 FR 3756, January 22, 2010).

The Commission transmitted its determinations in these reviews to the Secretary of Commerce on April 9, 2010. The views of the Commission are contained in USITC Publication 4135 (April 2010), entitled Preserved Mushrooms from Chile, China, India, and Indonesia: Investigation Nos. 731-TA-776-779 (Second Review).

By order of the Commission.
Issued: April 9, 2010.
William R. Bishop,
Acting Secretary to the Commission.

[FR Doc. 2010-8598 Filed 4-14-10; 8:45 am]

BILLING CODE 7020-02-P